DEPARTMENT OF DEFENSE

Department of the Navy

Meeting of the Board of Advisors (BOA) to The Presidents of the Naval Postgraduate School (NPS) and the Naval War College (NWC)

AGENCY: Department of the Navy, DoD.

ACTION: Notice.

SUMMARY: Pursuant to the provisions of The Federal Advisory Committee Act (Public Law 92-463, as amended), notice is hereby given that the following meeting of the Board of Advisors to the Presidents of the Naval Postgraduate School and the Naval War College Committee (NPS/NWC BOA) and its two subcommittees will be held. This meeting will be open to the public. For more information about the Committee, please visit http://my.nps.edu/web/board-of-advisors.

DATES: The meeting will be held on Wednesday, October 19, 2016, from 9:00 a.m. to 5:00 p.m. and on Thursday, October 20, 2016 from 9:00 a.m. to 12:00 p.m. Eastern Time Zone.

ADDRESSES: The meeting will be held at 3003 Washington Boulevard, Arlington, VA.

FOR FURTHER INFORMATION CONTACT: Ms. Jaye Panza, Designated Federal Official, Naval Postgraduate School, 1 University Circle, Monterey, CA 93943-5001, telephone number 831-656-2514.

SUPPLEMENTARY INFORMATION: The Committee examines the effectiveness with which the NPS and the NWC are accomplishing its missions. The agenda is as follows:

1. October 19, 2016, 9:00 a.m.-12:00 p.m.: The NPS BOA Subcommittee will meet to inquire into programs and curricula; instruction; administration; state of morale of the student body, faculty, and staff; fiscal affairs of NPS. The committee will review any other matters relating to the operations of the NPS as the board considers pertinent.

2. October 19, 2016, 1:00 p.m.-5:00 p.m.: General deliberations and inquiry by the NWC BOA Subcommittee into NWC programs and mission priorities; re-accreditation review; administration; military construction; leader development continuum; defense planning guidance efforts; and any other matters relating to the operations of the NWC as the board considers pertinent.

3. October 20, 2016, 9:00 a.m.-12:00 p.m.: The NPS and NWC Subcommittees will provide out briefs from their meetings to the NPS/NWC BOA Committee after which the Committee will discuss topics raised during the subcommittee sessions. Individuals without a DoD Government Common Access Card require an escort at the meeting location. For access, information, or to send written statements for consideration at the committee meeting contact Ms. Jaye Panza, Naval Postgraduate School, 1 University Circle, Monterey, CA 93943-5001 or by fax 831-656-2789 by October 12, 2016.

Dated: September 20, 2016.
C. Pan,
Lieutenant, Judge Advocate General's Corps, U.S. Navy, Alternate Federal Register Liaison Officer.

[FR Doc. 2016-23095 Filed 9-23-16; 8:45 am]

BILLING CODE 3810-FF-P